NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities (NEH) will hold three meetings, by video conference, of the Humanities Panel, a federal advisory committee, during January 2025. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: January 13, 2025

This meeting will discuss applications on the topics of Arts, Literature, Media, and Religious Studies, for the Kluge Fellowships grant program, submitted to the Library of Congress.

2. Date: January 14, 2025

This meeting will discuss applications on the topics of History, Jurisprudence, and Social Sciences, for the Kluge Fellowships grant program, submitted to the Library of Congress.

3. Date: January 15, 2025

This meeting will discuss applications on the topic of History, for the Kluge Fellowships grant program, submitted to the Library of Congress.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: December 12, 2024.
Jessica Graves,
Paralegal Specialist, National Endowment for the Humanities.

[FR Doc. 2024-29703 Filed 12-16-24; 8:45 am]

BILLING CODE 7536-01-P